DEPARTMENT OF AGRICULTURE

Economic Research Service

Notice of Request for Approval of a New Information Collection

AGENCY: Economic Research Service, USDA.

ACTION: Notice and request for comments.

SUMMARY: In accordance with the Paperwork Reduction Act of 1995 (44 U.S.C. Chapter 35), this notice announces the Economic Research Service's intention to request approval for a new information collection for the study of “Census of Users of the National Plant Germplasm System.” This is a new collection to provide information on usage and expectations of future use among requestors of genetic resources from USDA's National Plant Germplasm System.

DATES: Comments on this notice must be received by June 6, 2016 to be assured of consideration.

Additional Information or Comments: Address all comments concerning this notice to Kelly Day Rubenstein, Resource and Rural Economics Division, Economic Research Service, U.S. Department of Agriculture, Mail Stop 1800, 1400 Independence Ave. SW., Washington, DC 20250. Comments may also be submitted via fax to the attention of Kelly Day Rubenstein at 202-694-4847 or via email to kday@ers.usda.gov. For further information contact Kelly Day Rubenstein at the address above, or telephone 202-694-5515.

SUPPLEMENTARY INFORMATION: Title: Census of Users of the National Plant Germplasm System.

OMB Number: To be assigned by OMB.

Expiration Date of Approval: Three years from approval date.

Type of Request: New information collection.

Abstract: The Census of Users of the National Plant Germplasm System will solicit data from the 6,009 institutional representatives who requested germplasm (i.e., living tissue from which plants can be grown) for any of ten crops including beans, barley, cotton, maize, sorghum, squash, soybeans, potato, rice, and wheat from the National Plant Germplasm System over a five year period from January 2009 to December 2013. Each respondent will be asked to provide information via a web-based questionnaire. Legislative authority for the planned data collection is 7 U.S.C. 2204(a) and 7 U.S.C. 2661.

The information to be collected by the “Census of Users of the National Plant Germplasm System” is necessary to assess and understand the types and varieties of germplasm needed by breeders and other scientists in both the public and private sectors. This study will provide data not currently available to program officials and researchers, thereby broadening the scope of economic analyses of genetic enhancement, and in turn, enhancing R&D and productivity research at the Economic Research Service (ERS), the National Plant Germplasm System, and the National Germplasm Resource Laboratory. The database would contain a wealth of empirical information on germplasm use in breeding and research. This includes information by specific crops (e.g., the use of landraces in corn breeding, the search for biotic tolerance in wheat); the quantity of germplasm by type and purpose; institutional needs for germplasm (both public and private); and requestors' anticipated future use. This information will also assess biological traits that are needed for adaptation to climate change. Agriculture is highly geography-specific, given that growing regions vary by rainfall and temperature conditions, pest and disease pressures, and soil types. Accordingly, plant breeders work to develop unique varieties for different geographic locations. As a result, each requestor of NPGS germplasm is likely to have one characteristic—geographic location—which is unique and important to that institution's use of this germplasm, particularly in the context of global climate change. Moreover, it would be difficult to get adequate representation of the matrix of crops, germplasm types, and locations for some smaller crops (e.g., squash) without conducting a census of all germplasm requestors to the NPGS for any of the ten crops.

A web-based instrument will be used for information collection. It will be kept as simple and respondent-friendly as possible. Responses are voluntary. The study instrument is based on a mailed paper-based instrument used in the 2000 study, “Demand for Genetic Resources from the National Plant Germplasm System.” It was jointly developed by International Food Policy Research Institute (IFPRI), Auburn University's Department of Agricultural Economics and Rural Sociology, the National Germplasm Resources Lab of the National Plant Germplasm System, and the Economic Research Service. The instrument used in the 2000 study was administered by IFPRI and Auburn University and had a response rate of 35%. Study design for currently proposed study is consistent with that of the 2000 study in order to make comparisons across time. The frame for this census comprises all germplasm requestors to the NPGS for any of the ten crops in the last five years. Although the NPGS provided germplasm to any requestor free of cost, it also informed potential requestors and received their consent, at the time of a request was made, that their information could be used for activities relating to the service that they had requested. Several measures will be taken to support the response rate for the proposed information collection:

• Information will be collected via the internet rather than by mail. This data collection mode is more convenient for intended respondents and will allow for rapid follow up with non-respondents.

• This information collection will be cosponsored by the National Germplasm Resources Laboratory of USDA, which is familiar to the recipients as it is the agency that provided the requested germplasm.

• A well planned recruitment protocol will include sending the instrument with a cover letter from a senior staff member of the National Germplasm Resources Laboratory, who will be an individual familiar to many of the recipients. It also includes up to three reminder emails to non-respondents.

Should the response rate fall below 80%, a non-response bias study will be conducted. The web-based instrument was pretested for ease of use by fewer than ten germplasm requestors contacted by USDA Agricultural Research Service (ARS) and the average time spent completing the forms was 13 minutes.

Information from the Census of Users of the National Plant Germplasm System will be used for statistical purposes only and reported only in aggregate or statistical form. A public use data file will be created from this information collection. ERS does not intend to invoke CIPSEA or any other data protection statute for this collection, because it will not collect any sensitive or personal identifiable information.

Estimate of Burden: In order to answer our research question about the use of germplasm for adaptation to climate change, a census is needed to pinpoint geo-spatial demand for germplasm. Thus, all 6,009 requestors of germplasm will be asked to fill out a web instrument once during a one month data collection period; non-respondents will receive three reminder emails. 80% of requestors are assumed to provide a response to one of the four emailed instruments. The estimated time of response is 0.34 hour. This average includes time spent completing the questionnaire and reading reminder emails. 20% will be non-respondents and will incur less than 1 minute of time to read the material. Thus, response times are estimated by adding an additional minute for each reminder sent, for a total of four minutes for requestors who never respond. These estimates of respondent burden are based on pretesting by ARS scientists, conducted by the National Germplasm Resources Laboratory of the National Plant Germplasm System.

Type of Respondents: Respondents includes all individuals or institutions who requested germplasm for any of the aforesaid ten crops from the National Plant Germplasm System over the five year period as defined by this information collection.

Estimated Total Number of Respondents: 6,009.

Estimated Total Annual Burden on Respondents: 1,731.5 hours.

Comments: All written comments received will be available for public inspection in the Resource Center of the Economic Research Service during regular business hours (8:30 a.m. to 5:00 p.m., Monday through Friday) at 355 E St. SW., Room 04P33, Washington, DC 20024-4221. All responses to this notice will be summarized and included in the request for OMB approval. All comments will become a matter of public record. Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

Dated: March 29, 2016.
Mary Bohman,
Administrator, Economic Research Service.

[FR Doc. 2016-08030 Filed 4-6-16; 8:45 am]

BILLING CODE 3410-18-P